DEPARTMENT OF DEFENSE

Department of the Army

Army Science Board; Notice of Open Meeting

In accordance with section 10(a)(2) of the Federal Advisory Committee Act (PL 92-463), announcement is made of the following Committee Meeting:

Name of Committee: Army Science Board (ASB).

Date of Meeting: 27-28 March 2001.

Time of Meeting: 0730-1700, 27 March 2001; 0730-1600, 28 March 2001.

Place: 2000 15th Street North Arlington, VA 22201.

Agenda: The Army Science Board's (ASB) panel will conduct a study on “Knowledge Based Management and Information Reliability” to exam innovative ways of addressing technology issues that have the potential to “weigh down” our future Warfighters with massive amounts of data. These meetings will be open to the public. Any interested person may attend, appear before, or file statements with the committee at the time and in the manner permitted by the committee. For further information, please contact Mr. Randy Woodson, Office of the DA DCSINT, 703 604 2462, randy.woodson@hqda.army.mil.

Wayne Joyner,
Program Support Specialist, Army Science Board.

[FR Doc. 01-7763 Filed 3-28-01; 8:45 am]

BILLING CODE 3710-08-M